FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Office of Agreements (202-523-5793 or tradeanalysis@fmc.gov).

Agreement No.: 010050-018.

Title: U.S. Flag Discussion Agreement.

Parties: American President Lines, Ltd.; APL Co. PTE Ltd.; A.P. Moller-Maersk A/S; and Hapag-Lloyd USA, LLC.

Filing Party: Wayne R. Rohde, Esq.; Sher & Blackwell LLP; 1850 M Street, NW.; Suite 900; Washington, DC 20036.

Synopsis: The amendment deletes Farrell Lines Incorporated as a party to the agreement and changes the name of CP Ships USA, LLC to Hapag-Lloyd USA, LLC.

Agreement No.: 011959-001.

Title: Zim/ESL Agreement.

Parties: Zim Integrated Shipping Services, Ltd. and Emirates Shipping Line FZE.

Filing Party: Wayne R. Rohde, Esq.; Sher & Blackwell LLP; 1850 M Street, NW.; Suite 900; Washington, DC 20036.

Synopsis: The amendment would add Japan to the geographic scope of the agreement. The parties request expedited review.

Agreement No.: 011962-001.

Title: Consolidated Chassis Management Pool Agreement.

Parties: The Ocean Carrier Equipment Management Association and its member lines; the Association's subsidiary Consolidated Chassis Management LLC and its affiliates; China Shipping Container Lines Co., Ltd.; and Mediterranean Shipping Co., S.A.

Filing Party: Jeffrey F. Lawrence, Esq.; Sher & Blackwell LLP; 1850 M Street, NW.; Suite 900; Washington, DC 20036.

Synopsis: The amendment deletes Australia New Zealand Direct Line, Contship Containerlines, and CP Ships (USA) LLC; adds South Atlantic Consolidated Chassis Pool LLC; Companhia Libra de Navegacao; Hapag-Lloyd USA; Montemar Maritima S.A.; Norasia Container Lines Limited; Matson Navigation Company; Westwood Shipping Lines; and Zim Integrated Shipping Services, Ltd.; and updates the names and addresses of Hapag-Lloyd AG and Hamburg-Süd.

Agreement No.: 011974.

Title: Hanjin/KL/YMUK/UASC Vessel Sharing and slot Chartering Agreement.

Parties: Hanjin Shipping Co., Ltd.; Kawasaki Kisen Kaisha, Ltd.; Yang Ming (UK), Ltd.; and United Arab Shipping Co., S.A.G.

Filing Party: Robert B. Yoshitomi, Esq.; Nixon Peabody LLP; 2040 Main Street; Suite 850; Irvine, CA 92614.

Synopsis: The agreement authorizes the parties to charter slots on and coordinate vessels transiting the Suez Canal in the trades between ports and points in South East Asia, the Indian Subcontinent, Egypt, the Mediterranean, the Red Sea, the Arabian Sea, Europe and North America.

By Order of the Federal Maritime Commission.
Dated: October 6, 2006.
Bryant L. VanBrakle,
Secretary.

[FR Doc. E6-16914 Filed 10-11-06; 8:45 am]

BILLING CODE 6730-01-P